DEPARTMENT OF THE INTERIOR

Fish and Wildlife Service

[FWS-R4-R-2008-N0249; 40136-1265-0000-S3]

Mackay Island National Wildlife Refuge, Currituck County, NC

AGENCY: Fish and Wildlife Service, Interior.

ACTION: Notice of availability: final comprehensive conservation plan and finding of no significant impact.

SUMMARY: We, the Fish and Wildlife Service (Service), announce the availability of our final comprehensive conservation plan (CCP) and finding of no significant impact (FONSI) for Mackay Island National Wildlife Refuge (NWR).

ADDRESSES: A copy of the CCP may be obtained by writing to: Mike Hoff, Refuge Manager, Mackay Island NWR, P.O. Box 39, Knotts Island, NC 27950. The CCP may also be accessed and downloaded from the Service's Web site: http://southeast.fws.gov/planning.

FOR FURTHER INFORMATION CONTACT: Mike Hoff; Telephone: 252/429-3100; Fax: 252/429-3185.

SUPPLEMENTARY INFORMATION:

Introduction

With this notice, we finalize the CCP process for Mackay Island NWR. We started this process through a notice in the Federal Register on November 3, 2000 (65 FR 66256). Mackay Island NWR, in northeastern North Carolina, consists of 8,219 acres, of which 4,251 acres are brackish marsh, 1,515 acres are coastal fringe evergreen forest, 995 acres are managed wetlands (impoundments), and 298 acres are cropland. These habitats support a variety of wildlife species, including waterfowl, shorebirds, wading birds, marsh birds, neotropical migratory songbirds, and deer.

We announce our decision and the availability of the final CCP and FONSI for Mackay Island NWR in accordance with the National Environmental Policy Act (NEPA) [40 CFR 1506.6(b)] requirements. We completed a thorough analysis of impacts on the human environment, which we included in the Draft CCP/EA. The CCP will guide us in managing and administering Mackay Island NWR for the next 15 years. Alternative 2 is the foundation for the CCP.

The compatibility determinations for recreational hunting, fishing, wildlife observation, wildlife photography, environmental education and interpretation, trapping of selected furbearers for nuisance animal management, forest management, and refuge resource research studies are also available in the CCP.

Background

The National Wildlife Refuge System Improvement Act of 1997 (16 U.S.C. 668dd-668ee) (Improvement Act), which amended the National Wildlife Refuge System Administration Act of 1966, requires us to develop a CCP for each national wildlife refuge. The purpose for developing a CCP is to provide refuge managers with a 15-year plan for achieving refuge purposes and contributing toward the mission of the National Wildlife Refuge System, consistent with sound principles of fish and wildlife management, conservation, legal mandates, and our policies. In addition to outlining broad management direction on conserving wildlife and their habitats, CCPs identify wildlife-dependent recreational opportunities available to the public, including opportunities for hunting, fishing, wildlife observation, wildlife photography, and environmental education and interpretation. We will review and update the CCP at least every 15 years in accordance with the Improvement Act.

Comments

Approximately 100 copies of the Draft CCP/EA were made available for a 30-day review period as announced in the Federal Register on January 17, 2006 (71 FR 2560). Twenty-one comments on the Draft CCP/EA were received. The Draft CCP/EA identified and evaluated three alternatives for managing the refuge over a 15-year period.

Selected Alternative

After considering the comments we received and based on the professional judgment of the planning team, we selected Alternative 2 for implementation. The refuge will develop a habitat management plan and manage all habitats on the refuge. It will survey a wide range of wildlife. The refuge will continue to allow the priority public uses (e.g., hunting, fishing, wildlife observation, wildlife photography, and environmental education and interpretation) and will have the capacity to increase the number of opportunities for public use.

Authority: This notice is published under the authority of the National Wildlife Refuge System Improvement Act of 1997, Public Law 105-57.

Dated: September 29, 2008.
Cynthia K. Dohner,
Acting Regional Director.

[FR Doc. E8-29071 Filed 12-8-08; 8:45 am]

BILLING CODE 4310-55-P